SMALL BUSINESS ADMINISTRATION

[License No.: 05/05-0219]

Capital Fund, Inc.; Notice of Surrender of License

Notice is hereby given that Capital Fund, Inc., located at P.O. Box 80225, Lansing, MI 48908-0225, has surrendered its license to operate as a small business investment company under the Small Business Investment Act of 1958, as amended (the Act). Capital Fund, Inc. was licensed by the Small Business Administration on September 8, 1993.

Under the authority vested by the Act and pursuant to the regulations promulgate thereunder, the surrender of the license was accepted on February 4, 2002, and accordingly, all rights, privileges and franchises derived therefrom have been terminated.

(Catalog of Federal Domestic Assistance Program No. 59.011, Small Business Investment Companies)
Dated: February 5, 2002.
Harry Haskins,
Acting Associate Administrator for Investment.

[FR Doc. 02-3375 Filed 2-11-02; 8:45 am]

BILLING CODE 8025-01-P